DEPARTMENT OF THE INTERIOR

National Park Service

[NPS-WASO-NAGPRA-NPS0029195; PPWOCRADN0-PCU00RP14.R50000]

Notice of Inventory Completion: Sam Noble Oklahoma Museum of Natural History, Norman, OK

AGENCY: National Park Service, Interior.

ACTION: Notice.

SUMMARY: The Sam Noble Oklahoma Museum of Natural History at the University of Oklahoma has completed an inventory of human remains and associated funerary objects, in consultation with the appropriate Indian Tribes or Native Hawaiian organization, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Sam Noble Oklahoma Museum of Natural History. If no additional requesters come forward, transfer of control of the human remains and associated funerary objects to the lineal descendants, Indian Tribes, or Native Hawaiian organizations stated in this notice may proceed.

DATES: Representatives of any Indian Tribe or Native Hawaiian organization not identified in this notice that wish to request transfer of control of these human remains and associated funerary objects should submit a written request with information in support of the request to the Sam Noble Oklahoma Museum of Natural History at the address in this notice by January 8, 2020.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: Notice is here given in accordance with the Native American Graves Protection and Repatriation Act (NAGPRA), 25 U.S.C. 3003, of the completion of an inventory of human remains and associated funerary objects under the control of the Sam Noble Oklahoma Museum of Natural History, Norman, OK. The human remains and associated funerary objects were removed from McIntosh and Wagoner Counties, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Sam Noble Oklahoma Museum of Natural History professional staff in consultation with representatives of the Caddo Nation of Oklahoma and the Wichita and Affiliated Tribes (Wichita, Keechi, Waco & Tawakonie), Oklahoma (hereafter referred to as “The Tribes”).

History and Description of the Remains

From 1973 to 1976, human remains representing, at minimum, 17 individuals were removed from the Plantation site (34Mi63) in McIntosh County, OK. The site was recorded by the Oklahoma Archeological Survey in 1973 as a part of a survey along Highway 69. Excavations were carried out by the Oklahoma Highway Archeological Survey in 1975, and the associated materials were subsequently turned over to the Museum. The human remains include the mostly complete skeleton of one young adult male, 25-35 years old; the partial skeletons of four adults—one female, two males, and one adult of indeterminate sex—all over 20 years old; and fragmentary skeletons of one adult female over 20 years old; two middle adult males, 35-50 years old; five adults of indeterminate sex, all over 20 years old; one adolescent, 12-20 years old; and three children, 2-7 years old. No known individuals were identified. The 824 associated funerary objects include two charcoal samples, 71 faunal bone fragments, two stone biface fragments, two stone core fragments, 586 stone flakes, two stone projectile points, one stone scraper, four fire cracked rocks, seven stone beads, 96 groundstone fragments, three unmodified sandstone fragments, five daub fragments, 36 ceramic sherds, one reconstructed Williams Plain ceramic vessel, and six soil samples.

Diagnostic artifacts and radiocarbon dates associated with the Plantation site (34Mi63) burials indicate interment during the Mississippian Period, specifically the local Harlan through Spiro phases (A.D. 1100-1450).

Between 1933-1935 and 1947-1948, human remains representing, at minimum, 83 individuals were removed from the Norman site (34Wg2) in Wagoner County, OK. Beginning in 1933, this site, which includes multiple mounds and a habitation area, was excavated three times under the auspices of the University of Oklahoma and with the support of the Works Progress Administration and the Civilian Works Administration. Further excavations were conducted in 1948 as a cooperative project between the University of Oklahoma, the Smithsonian River Basin Surveys, and the Tulsa District of the U.S., Corps of Engineers before the construction of the Fort Gibson Reservoir, which subsequently flooded most of the site. The associated materials from the site were turned over to the Museum after each excavation season. The human remains include the complete skeletons of two adult females, 20-35 years old; one adult female, 35-50 years old; and one adult male, 20-35 years old. Partial skeletons include one infant, 1-3 years old; three children, 2-12 years old; one adolescent, 15-20 years old; one adult female over 20 years old; two adult females, 20-35 years; four adult females, 35-50 years old; three adults of indeterminate sex, one adult 20-35 years old and two adults 35-50 years old; two adult males over 20 years old; two adult males, 20-35 years old; six adult males, 35-50 years old; one adult male over 50 years old; five adults of indeterminate sex, each over 20 years old. Fragmentary skeletons include one adult female over 20 years old; two adult females, 20-35 years old; one adult female, 35-50 years old; one adult female over 50 years old; two adult males over 20 years old; two adult males, 20-35 years old; four adult males, 35-50 years old; eleven adults of indeterminate sex, each over 20 years old; three adolescents, 12-20 years old; ten children, 2-12 years old; and seven infants, each less than 3 years old. The human remains also include commingled human remains of three individuals discovered among isolated finds and the partial skeleton of an adult of indeterminate sex, over 20 years old. No known individuals were identified. The 1,590 associated funerary objects are three charcoal samples, 87 faunal bone fragments, nine chipped stone flakes, five stone bifaces, 32 stone projectile points, one stone scraper, two stone celts, 12 stone copper-covered ear spools, two decorated stone ear spools, one gray stone ear spool, one mano, one stone pipe, one unmodified sandstone block, two stone abraders, six ochre samples, one stone effigy pipe, three unmodified rocks, one quartzite rock, two copper bodkins (pins), one copper plate with raptor motif, one copper plate fragment with cross and bird motif, one clay bead, 80 decorated ceramic vessels, 311 ceramic decorated sherd fragments, 18 undecorated ceramic vessels, three partially reconstructed undecorated ceramic vessels with 19 associated sherds, 806 undecorated ceramic sherds, one ceramic pipe, three green clay samples, seven clay samples, 12 unidentified fired clay fragments, 76 seeds, 26 shell beads, one shell ornament, 30 shell fragments, one sample of burial matrix, two textile fragments, six cedar wood beads, six wood bodkins, and seven wood fragments.

Diagnostic artifacts and radiocarbon dates associated with the burials from the Norman site indicate interment during the Mississippian Period, specifically the local Harlan and Norman phases (A.D. 1100-1350).

In 1975, human remains representing, at minimum, two individuals were removed from the Mathews site (34Mi71) in McIntosh County, OK. The human remains and associated funerary objects were discovered eroding from the ground surface, and were collected by the Oklahoma Archeological Survey. All of the cultural materials were subsequently transferred to the Museum. The human remains include the fragmentary skeletons of two adults of indeterminate sex, 17-30 years old. No known individuals were identified. The four associated funerary objects are four faunal bone fragments. The Mathews site includes several pre-contact components, from the Late Archaic Period (1500-300 B.C.) through the Mississippian Period (A.D. 1000-1500). The human remains and associated funerary objects were probably interred during the latter period.

All of the human remains detailed in this notice were determined to be Native American based on their archeological context and collection history. Furthermore, all of the human remains and associated funerary objects were most likely buried during the Mississippian Period (A.D. 1000-1500). Diagnostic artifacts from these sites (e.g., ceramics, chipped stone, ground stone, shell, ornaments) are consistent with cultural patterns in the Arkansas River Valley. The archeological data, together with ethnohistoric data, ethnographic data, and tribal oral histories, support the finding that the human remains and associated funerary objects in this notice can be culturally affiliated with the Caddo Nation of Oklahoma and the Wichita and Affiliated Tribes (Wichita, Keechi, Waco & Tawakonie), Oklahoma.

Determinations Made by the Sam Noble Oklahoma Museum of Natural History

Officials of the Sam Noble Oklahoma Museum of Natural History have determined that:

• Pursuant to 25 U.S.C. 3001(9), the human remains described in this notice represent the physical remains of 102 individuals of Native American ancestry.

• Pursuant to 25 U.S.C. 3001(3)(A), the 2,418 objects described in this notice are reasonably believed to have been placed with or near individual human remains at the time of death or later as part of the death rite or ceremony.

• Pursuant to 25 U.S.C. 3001(2), a relationship of shared group identity that can be reasonably traced between the Native American human remains and associated funerary objects and The Tribes.

Additional Requesters and Disposition

Lineal descendants or representatives of any Indian Tribe or Native Hawaiian organization not identified in this notice that wish to request transfer of control of these human remains and associated funerary objects should submit a written request with information in support of the request to Dr. Marc Levine, Associate Curator of Archaeology, Sam Noble Oklahoma Museum of Natural History, University of Oklahoma, 2401 Chautauqua Avenue, Norman, OK 73072-7029, telephone (405) 325-1994, email mlevine@ou.edu, by January 8, 2020. After that date, if no additional requestors have come forward, transfer of control of the human remains and associated funerary objects to The Tribes may proceed.

The Sam Noble Oklahoma Museum of Natural History is responsible for notifying The Tribes that this notice has been published.

Dated: October 24, 2019.
Melanie O'Brien,
Manager, National NAGPRA Program.

[FR Doc. 2019-26434 Filed 12-6-19; 8:45 am]

BILLING CODE 4312-52-P